FEDERAL COMMUNICATIONS COMMISSION

47 CFR Part 0

[DA 12-1263]

List of Office of Management and Budget Approved Information Collection Requirements

AGENCY: Federal Communications Commission.

ACTION: Final rule.

SUMMARY: This document revises the Commission's list of Office of Management and Budget (OMB) approved public information collection requirements with their associated OMB expiration dates. This list will provide the public with a current list of public information collection requirements approved by OMB and their associated control numbers and expiration date as of June 30, 2012.

DATES: Effective August 13, 2012.

FOR FURTHER INFORMATION CONTACT: Judith B. Herman, Office of the Managing Director, (202) 418-0214 or by email to Judith-B.Herman@fcc.gov.

SUPPLEMENTARY INFORMATION: This document adopted on August 3, 2012 and released on August 6, 2012 by the Managing Director in DA 12-1263 revised 47 CFR 0.408 in its entirety.

1. Section 3507(a)(3) of the Paperwork Reduction Act of 1995, 44 U.S.C. 3507(a)(3), requires agencies to display a current control number assigned by the Director, Office of Management and Budget (“OMB”) for each agency information collection requirement.

2. Section 0.408 of the Commission's rules displays the OMB control numbers assigned to the Commission's public information collection requirements that have been reviewed and approved by OMB.

3. Authority for this action is contained in Section 4(i) of the Communications Act of 1934 (47 U.S.C. 154(i)), as amended, and section 0.231(b) of the Commission's Rules. Since this amendment is a matter of agency organization procedure or practice, the notice and comment and effective date provisions of the Administrative Procedure Act do not apply. See 5 U.S.C. 553(b)(A)(d). For this reason, this rulemaking is not subject to the Congressional Review Act and will not be reported to Congress and the Government Accountability Office. See 5 U.S.C. 801.

4. Accordingly, it is ordered, that section 0.408 of the rules is revised as set forth in the revised text effective on August 13, 2012.

5. Persons having questions on this matter should contact Judith B. Herman at (202) 418-0214 or email to Judith-B.Herman@fcc.gov.

List of Subjects in 47 CFR Part 0

Reporting and recordkeeping requirements.

Federal Communications Commission.
Marlene H. Dortch,
Secretary.

Accordingly, 47 CFR part 0 is amended as follows:

PART 0—COMMISSION ORGANIZATION

1. The authority citation for part 0 continues to read as follows:

Authority: Sec. 5, 48 Stat. 1068, as amended; 47 U.S.C. 155, 225, unless otherwise noted.

2. Section 0.408 is revised to read as follows:

§ 0.408 OMB control numbers and expiration dates assigned pursuant to the Paperwork Reduction Act of 1995.

(a) Purpose. This section displays the OMB control numbers and expiration dates for the Commission information collection requirements assigned by the Office of Management and Budget (“OMB”) pursuant to the Paperwork Reduction Act of 1995, Public Law 104-13. The Commission intends that this section comply with the requirement that agencies “display” current control numbers and expiration dates assigned by the Director, OMB, for each approved information collection requirement. Notwithstanding any other provisions of law, no person shall be subject to any penalty for failing to comply with a collection of information subject to the Paperwork Reduction Act (PRA) that does not display a currently valid OMB control number. Questions concerning the OMB control numbers and expiration dates should be directed to the Associate Managing Director—Performance Evaluation and Records Management, (“AMD-PERM”), Office of Managing Director, Federal Communications Commission, Washington, DC 20554 by sending an email to Judith-B.Herman@fcc.gov.

(b) Display.

OMB Control No. | FCC form number or 47 CFR section or part, docket number or title identifying the collection | OMB expiration date
3060-0004 | Secs. 1.1307 and 1.1311, Guidelines for Evaluating the Environmental Effects of Radiofrequency Radiation, ET Docket No. 93-62 | 05/31/14
3060-0009 | FCC 316 | 05/31/13
3060-0010 | FCC 323 | 10/31/12
3060-0016 | FCC 346 | 03/31/14
3060-0017 | FCC 347 | 11/30/14
3060-0027 | FCC 301 | 04/30/15
3060-0029 | FCC 340 | 07/31/14
3060-0031 | FCC 314 and FCC 315 | 05/31/13
3060-0053 | FCC 702 and FCC 703 | 07/31/14
3060-0055 | FCC 327 | 02/28/15
3060-0056 | Part 68—Connection of Terminal Equipment to the Telephone Network | 03/31/14
3060-0057 | FCC 731 | 03/31/14
3060-0059 | FCC 740 | 03/31/13
3060-0061 | FCC 325 | 06/30/14
3060-0065 | FCC 442 | 06/30/14
3060-0075 | FCC 345 | 04/30/15
3060-0076 | FCC 395 | 09/30/13
3060-0084 | FCC 323-E | 01/31/14
3060-0093 | FCC 405 | 10/31/14
3060-0095 | FCC 395-A | 08/31/14
3060-0106 | Sec. 43.61, Part 43, Reporting Requirements for U.S. Providers of International Telecommunications Services and Affiliates | 10/31/14
3060-0110 | FCC 303-S | 02/28/14
3060-0113 | FCC 396 | 04/30/15
3060-0120 | FCC 396-A | 06/30/15
3060-0126 | Sec. 73.1820 | 09/30/14
3060-0132 | FCC 1068A | 05/31/15
3060-0139 | FCC 854 | 04/30/15
3060-0147 | Sec. 64.804 | 09/30/14
3060-0149 | Part 63, Section 214, Secs. 63.01, 63.602; 63.50, 63.51, 63.52, 63.53; 63.61, 63.62, 63.63; 63.65, 63.66; 63.71; 63.90; 63.500, 63.501; 63.504, 63.505 and 63.601 | 12/31/12
3060-0157 | Sec. 73.99 | 08/31/14
3060-0161 | Sec. 73.61 | 01/31/15
3060-0166 | Part 42, Secs. 42.4, 42.5, 42.6 and 42.7 | 09/30/13
3060-0168 | Sec. 43.43 | 09/30/12
3060-0169 | Sec. 43.51 | 10/31/14
3060-0170 | Sec. 73.1030 | 08/31/13
3060-0171 | Sec. 73.1125 | 08/31/13
3060-0174 | Secs. 73.1212, 76.1615, and 76.1715 | 06/30/15
3060-0175 | Sec. 73.1250 | 03/31/14
3060-0176 | Sec. 73.1510 | 08/31/14
3060-0178 | Sec. 73.1560 | 06/30/14
3060-0179 | Sec. 73.1590 | 09/30/13
3060-0180 | Sec. 73.1610 | 07/31/13
3060-0182 | Sec. 73.1620 | 02/28/13
3060-0185 | Sec. 73.3613 | 11/30/13
3060-0188 | Call Sign Reservation and Authorization System | 08/31/13
3060-0190 | Sec. 73.3544 | 10/31/12
3060-0192 | Sec. 87.103 | 10/31/13
3060-0202 | Sec. 87.37 | 04/30/15
3060-0204 | Sec. 90.20(a)(2)(v) and 90.20(a)(2)(xi) | 10/31/14
3060-0207 | Part 11—Emergency Alert System (EAS) | 02/28/15
3060-0208 | Sec. 73.1870 | 02/28/15
3060-0213 | Sec. 73.3525 | 02/28/15
3060-0214 | Secs. 73.3526 and 73.3527; Secs. 76.1701 and 73.1943 | 06/30/15
3060-0216 | Secs. 73.3538 and 73.1690(e) | 11/30/13
3060-0221 | Sec. 90.155 | 01/31/14
3060-0222 | Sec. 97.213 | 06/30/15
3060-0223 | Sec. 90.129 | 09/30/14
3060-0228 | Sec. 80.59 and FCC 806, 824, 827 and 829 | 07/31/13
3060-0233 | Part 36—Separations | 11/30/12
3060-0236 | Sec. 74.703 | 03/31/14
3060-0248 | Sec. 74.751 | 11/30/13
3060-0249 | Secs. 74.781, 74.1281, and 78.69 | 04/30/15
3060-0250 | Secs. 73.1207, 74.784 and 74.1284 | 08/31/12
3060-0259 | Sec. 90.263 | 08/31/12
3060-0261 | Sec. 90.215 | 07/31/13
3060-0262 | Sec. 90.179 | 04/30/14
3060-0264 | Sec. 80.413 | 08/31/12
3060-0265 | Sec. 80.868 | 05/31/13
3060-0270 | Sec. 90.443 | 01/31/13
3060-0281 | Sec. 90.651 | 05/31/13
3060-0286 | Sec. 80.302 | 02/28/13
3060-0288 | Sec. 78.33 | 07/31/14
3060-0289 | Secs. 76.601, 76.1704, 76.1705, and 76.1717 | 05/31/14
3060-0290 | Sec. 90.517 | 03/31/14
3060-0291 | Sec. 90.477(a), (b)(2), (d)(2) and (d)(3) | 07/31/14
3060-0292 | Part 69 and Sec. 69.605 | 02/28/13
3060-0295 | Sec. 90.607(b)(1) and (c)(1) | 04/30/13
3060-0297 | Sec. 80.503 | 08/31/12
3060-0298 | Part 61, Tariffs (Other than Tariff Review Plan) | 05/31/15
3060-0307 | Parts 1, 22 and 90 Rules to Facilitate Development of SMR Systems in the 800 MHz Frequency Band | 01/31/13
3060-0308 | Sec. 90.505 | 04/30/13
3060-0310 | Sec. 76.1801 and FCC 322 | 01/31/15
3060-0311 | Sec. 76.54 | 03/31/14
3060-0316 | Secs. 76.1700, 76.1702, 76.1703, 76.1704, 76.1707, and 76.1711 | 12/31/13
3060-0320 | Sec. 73.1350 | 11/30/12
3060-0325 | Sec. 80.605 | 08/31/14
3060-0329 | Sec. 2.955 | 01/31/15
3060-0331 | FCC 321 | 01/31/15
3060-0332 | Secs. 76.614 and 76.1706 | 08/31/13
3060-0340 | Sec. 73.51 | 10/31/12
3060-0341 | Sec. 73.1680 | 01/31/15
3060-0346 | Sec. 78.27 | 10/31/12
3060-0347 | Sec. 97.311 | 09/30/14
3060-0349 | Secs. 73.2080, 76.73, 76.75, 76.79, and 76.1702 | 12/31/12
3060-0355 | FCC 492 and FCC 492A | 05/31/13
3060-0357 | Sec. 63.701 | 02/28/14
3060-0360 | Sec. 80.409 | 01/31/14
3060-0370 | Part 32—Uniform System of Accounts for Telecommunications Companies | 01/31/14
3060-0384 | Secs. 64.901, 64.904 and 64.905 | 12/31/13
3060-0386 | Secs. 1.5, 73.1615, 73.1635, 73.1740, 73.3598, 74.788, and FCC 337 | 11/30/14
3060-0387 | Secs. 15.201(d), 15.209, 15.211, 15.213 and 15.221 | 05/31/15
3060-0390 | FCC 395-B | 09/30/14
3060-0391 | Parts 54 and 36, Program to Monitor the Impacts of the Universal Service Support Mechanisms | 03/31/14
3060-0392 | 47 CFR Part 1, Subpart J, Pole Attachment Complaint Procedures | 12/31/12
3060-0394 | Sec. 1.420 | 04/30/14
3060-0395 | FCC Reports 43-02, FCC 43-05 and FCC 43-07 | 09/30/14
3060-0398 | Secs. 2.948 and 15.117(g)(2) | 09/30/13
3060-0400 | Tariff Review Plan (TRP) | 05/31/15
3060-0404 | FCC 350 | 11/30/13
3060-0405 | FCC 349 | 04/30/13
3060-0410 | FCC 495A and FCC 495B | 09/30/14
3060-0411 | FCC 485 | 09/30/14
3060-0414 | Terrain Shielding Policy | 10/31/12
3060-0419 | Secs. 76.94, 76.95, 76.105, 76.106, 76.107, and 76.1609 | 06/30/14
3060-0422 | Sec. 68.5 | 08/31/13
3060-0423 | Sec. 73.3588 | 04/30/14
3060-0430 | Sec. 1.1206 | 12/31/14
3060-0433 | FCC 320 | 05/31/14
3060-0434 | Sec. 90.20(e)(6) | 07/31/14
3060-0439 | Sec. 64.201 | 09/30/13
3060-0441 | Secs. 90.621 and 90.693 | 08/31/12
3060-0454 | Secs. 43.51, 64.1001 and 64.1002 | 06/30/14
3060-0463 | Telecommunications Relay Services and Speech-to-Speech Services for Individuals with Hearing and Speech Disabilities, Report and Order and Declaratory Ruling, CG Doc. No. 03-123, FCC 07-186 | 06/30/14
3060-0466 | Secs. 73.1201, 74.783 and 74.1283 | 10/31/13
3060-0470 | Secs. 64.901 and 64.903, and RAO Letters 19 and 26 | 06/30/14
3060-0473 | Sec. 74.1251 | 05/31/14
3060-0474 | Sec. 74.1263 | 09/30/14
3060-0484 | Secs. 4.1 and 4.2 and Part 4 of the Commission's Rules Concerning Disruptions to Communications (NORS) | 02/28/14
3060-0489 | Sec. 73.37 | 06/30/15
3060-0496 | FCC Report 43-08 | 04/30/13
3060-0500 | Sec. 76.1713 | 08/31/13
3060-0501 | Secs. 73.1942, 76.206 and 76.1611 | 10/31/14
3060-0506 | FCC 302-FM | 11/30/14
3060-0508 | Part 1 and Part 22 Reporting and Recordkeeping Requirements | 09/30/14
3060-0511 | FCC Report 43-04 | 11/30/14
3060-0512 | FCC Report 43-01 | 04/30/15
3060-0519 | Rules and Regulations Implementing the Telephone Consumer Protection Act (TCPA) of 1991, Order, CG Docket No. 02-278 | 10/31/14
3060-0526 | Sec. 69.123, Density Pricing Zone Plans, Expanded Interconnection with Local Telephone Company Facilities | 05/31/14
3060-0531 | Secs. 101.1011, 101.1325(b), 101.1327(a), 101.527, 101.529, and 101.103 | 01/31/13
3060-0532 | Secs. 2.1033 and 15.121 | 08/31/14
3060-0537 | Sec. 13.217 | 03/31/14
3060-0546 | Sec. 76.59 | 09/30/14
3060-0548 | Secs. 76.1708, 76.1709, 76.1620, 76.56 and 76.1614 | 06/30/14
3060-0550 | FCC 328 | 05/31/14
3060-0560 | Sec. 76.911 | 05/31/13
3060-0562 | Sec. 76.916 | 12/31/12
3060-0565 | Sec. 76.944 | 03/31/15
3060-0568 | Secs. 76.970, 76.971 and 76.975 | 04/30/15
3060-0569 | Sec. 76.975 | 01/31/15
3060-0572 | Secs. 43.82, International Circuit Status Reports | 10/31/14
3060-0573 | FCC 394 | 02/28/15
3060-0580 | Sec. 76.1710 | 11/30/12
3060-0584 | FCC 44 and FCC 45 | 03/31/15
3060-0589 | FCC 159, FCC 159-B, FCC 159-C, FCC 159-E and 159-W | 03/31/14
3060-0594 | FCC 1220 | 05/31/13
3060-0599 | Secs. 90.647 and 90.425 | 02/28/13
3060-0600 | Application to Participate in a FCC Auction | 09/30/12
3060-0601 | FCC 1200 | 05/31/13
3060-0607 | Sec. 76.922 | 01/31/15
3060-0609 | Sec. 76.934(e) | 06/30/13
3060-0625 | Sec. 24.103 | 04/30/13
3060-0626 | Sec. 90.483 | 01/31/14
3060-0627 | FCC 302-AM | 11/30/14
3060-0633 | Secs. 73.1230, 74.165, 74.432, 74.564, 74.664, 74.765, 74.832 and 74.1265 | 08/31/13
3060-0634 | Sec. 73.691 | 11/30/12
3060-0636 | Secs. 2.906, 2.909, 2.1071, 2.1075, 2.1076, 2.1077 and 15.37 | 05/31/15
3060-0645 | Secs. 17.4, 17.48 and 17.49 | 04/30/15
3060-0647 | Cable Price Survey and Supplemental Questions and FCC 333 | 08/31/13
3060-0649 | Secs. 76.1601, 76.1617, 76.1697 and 76.1708 | 08/31/13
3060-0652 | Secs. 76.309, 76.1602, 76.160 and 76.1619 | 07/31/14
3060-0653 | Sec. 64.703(b) and (c) | 03/31/14
3060-0655 | Requests for Waivers of Regulatory and Application Fees | 07/31/13
3060-0665 | Sec. 64.707 | 10/31/13
3060-0667 | Secs. 76.630, 76.1621 and 76.1622 | 03/31/14
3060-0668 | Sec. 76.936 | 09/30/13
3060-0669 | Sec. 76.946 | 11/30/13
3060-0674 | Sec. 76.1618 | 06/30/14
3060-0678 | Part 25 of the Commission's Rules Governing the Licensing of, and Spectrum Usage by, Satellite Network Stations and Space Stations | 09/30/13
3060-0685 | FCC 1210 and FCC 1240 | 12/31/14
3060-0686 | Secs. 63.10, 63.11, 63.13, 63.18, 63.19, 63.21, 63.24, 63.25 and 1.1311, International Section 214 Process and Tariff Requirements and FCC 214, FCC 214TC and FCC 214STA | 02/28/14
3060-0687 | Access to Telecommunications Equipment and Services by Persons with Disabilities, CC Docket No. 87-124 | 05/31/15
3060-0688 | FCC 1235 | 08/31/13
3060-0690 | Sec. 101.17 | 04/30/15
3060-0691 | Sec. 90.665 | 07/31/13
3060-0692 | Secs. 76.613, 76.802 and 76.804 | 02/28/13
3060-0695 | Sec. 87.219 | 10/31/14
3060-0698 | Secs. 25.203(i) and 73.1030(a)(2), Radio Astronomy Coordination Zone in Puerto Rico | 03/31/14
3060-0700 | FCC 1275 | 07/31/13
3060-0703 | FCC 1205 | 01/31/15
3060-0704 | Secs. 42.10, 42.11 and 64.1900 and Section 254(g), Policy and Rule Concerning the Interstate, Interexchange Marketplace | 09/30/14
3060-0706 | Secs. 76.952 and 76.990, Cable Act Reform | 06/30/14
3060-0707 | Over-the Air Reception Devices (OTARD) | 03/31/14
3060-0710 | Policy and Rules Under Parts 1 and 51 Concerning the Implementation of the Local Competition Provisions in the Telecommunications Act of 1996—CC Docket No. 96-98 | 07/31/13
3060-0713 | Alternative Broadcast Inspection Program (ABIP) Compliance Notification | 04/30/14
3060-0715 | Telecommunications Carriers' Use of Customer Proprietary Network Information (CPNI) and Other Customer Information—CC Docket No. 96-115 | 07/31/14
3060-0716 | Secs. 73.88, 73.718, 73.685 and 73.1630 | 04/30/15
3060-0717 | Secs. 64.703(a), 64.709 and 64.710 | 06/30/14
3060-0718 | Part 101 Rule Sections Governing the Terrestrial Microwave Fixed Radio Service | 04/30/15
3060-0719 | Quarterly Report of IntraLATA Carriers Listing Payphone Automatic Number Identifications (ANIs) | 03/31/13
3060-0723 | 47 U.S.C. Section 276, Public Disclosure of Network Information by Bell Operating Companies (BOCs) | 10/31/12
3060-0725 | Quarterly Filing of Nondiscrimination Reports (on Quality of Service, Installation, and Maintenance) by Bell Operating Companies (BOC's) | 05/31/15
3060-0727 | Sec. 73.213 | 10/31/12
3060-0734 | Secs. 53.209, 53.211 and 53.213 | 08/31/14
3060-0737 | Disclosure Requirements for Information Services Provided Under a Presubscription or Comparable Arrangement | 01/31/15
3060-0740 | Sec. 95.1015 | 10/31/14
3060-0741 | Implementation of the Local Competition Provisions on the Telecommunications Act of 1996—CC Docket No. 96-98 | 01/31/14
3060-0742 | Secs. 52.21, 52.22, 52.23, 52.24, 52.25, 52.26, 52.27, 52.28, 52.29, 52.30, 52.31, 52.32, 52.33, 52.34, 52.35 and 52.36; and CC Docket No. 95-116 | 07/31/13
3060-0743 | Implementation of the Pay Telephone Reclassification and Compensation Provisions of the Telecommunications Act of 1996—CC Docket No. 96-128 | 02/28/13
3060-0745 | Implementation of the Local Exchange Carrier Tariff Streamlining Provisions of the Telecommunications Act of 1996, CC Docket No. 96-187 | 10/31/12
3060-0748 | Secs. 64.1504, 64.1509 and 64.1510, Pay-Per-Call and Other Information Services | 04/30/13
3060-0750 | Secs. 73.671 and 73.673 | 06/30/14
3060-0751 | Sec. 43.51 | 08/31/14
3060-0754 | FCC 398 | 04/30/15
3060-0755 | Secs. 59.1, 59.2, 59.3 and 59.4 | 01/31/15
3060-0758 | Secs. 5.55, 5.61, 5.75, 5.85, and 5.93, Experimental Radio Service Regulations, ET Docket No. 96-256 | 04/30/13
3060-0760 | 272 Sunset Order; WC Docket No. 06-120; Access Charge Reform, CC Docket No. 96-262, First Report and Order; Second Order on Reconsideration and Memorandum Opinion and Order; and Fifth Report and Order | 09/30/14
3060-0761 | Sec. 79.1 | Pending OMB review and approval.
3060-0763 | FCC Report 43-06 | 02/28/15
3060-0767 | Secs. 1.2110, 1.2111 and 1.2112, Auction and Licensing Disclosures—Ownership and Small Business Status | 06/30/14
3060-0768 | 28 GHz Band Segmentation Plan Amending the Commission's Rules to Redesignate the 27.5-29.5 GHz Frequency Band, to Reallocate the 29.5-30.0 GHz Frequency Band, and to Establish Rules and Policies | 08/31/14
3060-0770 | Secs. 1.774, 61.49, 61.55, 61.58, 69.4, 69.707, 69.713 and 69.729 | 10/31/14
3060-0773 | Sec. 2.803 | 12/31/12
3060-0774 | Parts 36 and 54, Federal-State Joint Board on Universal Service | 06/30/14
3060-0775 | Sec. 64.1903 | 04/30/13
3060-0779 | Secs. 90.20(a)(1)(iii), 90.769, 90.767, 90.763(b)(l)(i)(a), 90.763(b)(l)(i)(B), 90.771(b) and 90.743, Rules for Use of the 220 MHz Band by the Private Land Mobile Radio Service (PLMRS) | 11/30/13
3060-0782 | Petition for Limited Modification of LATA Boundaries to Provide Expanded Local Calling Service (ELCS) at Various Locations | 11/30/12
3060-0783 | Sec. 90.176 | 01/31/15
3060-0787 | Implementation of Subscriber Carrier Selection Changes Provisions of the Telecommunications Act of 1996; Policies and Rules Concerning Unauthorized Changes of Consumers' Long Distance Carriers | 07/31/14
3060-0788 | DTV Showings/Interference Agreements | 10/31/13
3060-0790 | Sec. 68.110(c) | 09/30/12
3060-0791 | Sec. 32.7300 | 09/30/12
3060-0795 | FCC 606 | 08/31/14
3060-0798 | FCC 601 | 04/30/15
3060-0799 | FCC 602 | 09/30/13
3060-0800 | FCC 603 | 02/28/14
3060-0804 | FCC 465, FCC 466, FCC 466-A and FCC 467 | 11/30/14
3060-0805 | Secs. 90.523, 90.527, 90.545 and 90.1211 | 07/31/14
3060-0806 | FCC 470 and FCC 471 | 10/31/13
3060-0807 | Sec. 51.803 and Supplemental Procedures for Petitions to Section 252(e)(5) of the Communications Act of 1934, as amended | 07/31/13
3060-0809 | Communications Assistance for Law Enforcement Act (CALEA) | 02/28/14
3060-0812 | Exemption from Payment of Regulatory Fees When Claiming Non-Profit Status | 12/31/14
3060-0813 | Sec. 20.18, Enhanced 911 Emergency Calling Systems | 02/28/15
3060-0814 | Sec. 54.301, Local Switching Support and Local Switching Support Data Collection Form and Instructions | 12/31/13
3060-0816 | FCC 477 | 04/30/13
3060-0817 | Computer III Further Remand Proceedings: BOC Provision of Enhanced Services (ONA Requirements), CC Docket No. 95-20 | 06/30/15
3060-0819 | Secs. 54.400-54.707 and FCC 497 | 10/31/12
3060-0823 | Part 64, Pay Telephone Reclassification | 03/31/14
3060-0824 | FCC 498 | 11/30/12
3060-0833 | Implementation of Section 255 of the Telecommunications Act of 1996: Complaint Filings | 05/31/14
3060-0835 | FCC 806, FCC 824, FCC 827 and FCC 829 | 09/30/12
3060-0837 | FCC 302-TV | 04/30/13
3060-0844 | Carriage of the Transmissions of Digital Television Broadcast Stations | 10/31/13
3060-0848 | Deployment of Wireline Services Offering Advanced Telecommunications Capability—CC Docket No. 98-147 | 02/28/15
3060-0849 | Commercial Availability of Navigation Devices | 07/31/14
3060-0850 | FCC 605 | 06/30/14
3060-0853 | FCC 479, FCC 486 and FCC 500 | 10/31/13
3060-0854 | Truth-in-Billing Format, CC Docket No. 98-170 and CG Docket No. 04-208 | 09/30/14
3060-0855 | FCC 499-A and FCC 499-Q | 10/31/14
3060-0856 | FCC 472, FCC 473 and FCC 474 | 06/30/13
3060-0859 | Public Notice—Suggested Guidelines for Petitions for Ruling under Section 253 of the Telecommunications Act | 05/31/15
3060-0862 | Handling Confidential Information | 07/31/14
3060-0863 | Satellite Delivery of Network Signals to Unserved Households for Purposes of the Satellite Home Viewer Act (SHVA) | 06/30/14
3060-0865 | Wireless Telecommunications Bureau Universal Licensing System Recordkeeping and Third-Party Disclosure Requirements | 08/31/13
3060-0874 | FCC 475B, FCC 501, FCC 2000 Series A-F, FCC 1088A, B, C, D, E, F, and H | Pending OMB review and approval.
3060-0876 | Sec. 54.703 and Secs. 54.719, 54.720, 54.721, 54.722, 54.723, 54.724 and 54.725 | 10/31/12
3060-0881 | Sec. 95.861 | 07/31/14
3060-0882 | Sec. 95.833 | 10/31/14
3060-0888 | Secs. 1.221, 1.229, 1.248, 76.7, 76.9, 76.61, 76.914, 76.1001, 76.1003, 76.1302 and 76.1513 | 01/31/15
3060-0895 | Sec. 52.15, CC Docket No. 99-200 and FCC 502 | 06/30/13
3060-0896 | Broadcast Auction Form Exhibits | 10/31/14
3060-0905 | Sec. 18.213 | 08/31/14
3060-0906 | FCC 317 and Sec. 73.624(g) | 11/30/14
3060-0910 | Third Report and Order in CC Docket No. 94-102 to Ensure Compatibility with Enhanced 911 Emergency Calling Systems | 09/30/12
3060-0912 | Secs. 76.501, 76.503 and 76.504, Cable Attribution Rules | 03/31/15
3060-0917 | FCC 160 | 05/31/13
3060-0918 | FCC 161 | 05/31/13
3060-0920 | FCC 318 | 05/31/14
3060-0922 | FCC 397 | 03/31/15
3060-0927 | Auditor's Annual Independence and Objectivity Certification | 02/28/15
3060-0928 | FCC 302-CA | 10/31/12
3060-0931 | Sec. 80.103, Digital Selective Calling (DSC) Operating Procedures; Maritime Mobile Services Identity (MMSI) | 07/31/12
3060-0932 | FCC 301-CA and Sec. 74.793(d) | 11/30/13
3060-0936 | Secs. 95.1215 and 95.1217 | 06/30/15
3060-0937 | Establishment of a Class A Television Service, MM Docket No. 00-10 | 07/31/13
3060-0938 | FCC 319 | 02/28/15
3060-0942 | Access Charge Reform, Price Cap Performance Review for Local Exchange Carriers, Low-Volume Long Distance Users, Federal-State Joint Board on Universal Service | 06/30/13
3060-0944 | Secs. 1.767 and 1.768,; Executive Order (E.O.) 10530, Cable Landing License Act; FCC 220 | 02/28/14
3060-0950 | Bidding Credits for Tribal Lands | 08/31/13
3060-0951 | Sec. 1.1204(b) Note, and Sec. 1.1206(a) Note 1 | 03/31/13
3060-0952 | Proposed Demographic Information and Notifications, Second FNPRM, CC Docket Nos. 98-147 | 03/31/13
3060-0953 | Secs. 95.1111 and 95.1113 | 05/31/13
3060-0955 | Secs. 25.114, 25.115, 25.133, 25.137, 25.143, 25.203, and 25.279; 2 GHz Mobile Satellite Service Reports | 01/31/13
3060-0957 | Sec. 20.18(i) and (g) | 12/31/13
3060-0960 | Secs. 76.122, 76.123, 76.124 and 76.127 | 03/31/14
3060-0962 | Redesignation of the 18 GHz Frequency Band, Blanket Licensing of Satellite Earth Stations in the Ka-Band, and the Allocation of Additional Spectrum for Broadcast Satellite Service Use | 08/31/14
3060-0967 | Sec. 79.2 | 08/31/13
3060-0971 | Sec. 52.15 | 02/28/14
3060-0972 | FCC 507, FCC 508 and FCC 509, Multi-Association Group (MAG) Plan Order, Parts 54 and 69 Filing Requirements for Regulation of Interstate Services of Non-Price Cap Incumbent LECs and Interexchange Carriers | 02/28/14
3060-0973 | Sec. 64.1120(e) | 09/30/13
3060-0975 | Secs. 68.3 and 1.4000 | 11/30/13
3060-0979 | License Audit Letter | 01/31/13
3060-0980 | Sec. 76.66, Implementation of the Satellite Home Viewer Extension and Reauthorization Act of 1999; (SHVERA) Rules, Local Broadcast Signal Carriage Issues, Retransmission Consent Issues | 07/31/14
3060-0984 | Secs. 90.35(b)(2) and 90.175(b)(1) | 01/31/14
3060-0986 | FCC 525 | 04/30/15
3060-0987 | Sec. 20.18(l)(1)(i-iii) and 20.18(l)(2)(i-iii), 911 Callback Capability; Non-initialized Handsets | 09/30/14
3060-0989 | Secs. 63.01, 63.03 and 63.04 | 07/31/14
3060-0991 | AM Measurement Data | 01/31/15
3060-0992 | Sec. 54.507(d)(1)-(4) | 09/30/13
3060-0994 | Flexibility for Delivery of Communications by Mobile Satellite Service Providers in the 2 GHz Band, the L-Band, and the 1.6/2.4 GHz Band | 02/28/13
3060-0995 | Sec. 1.2105(c) | 01/31/14
3060-0996 | AM Auction Section 307(b) Submissions | 07/31/14
3060-0997 | Sec. 52.15(k) | 04/30/14
3060-0998 | Sec. 87.109 | 07/31/13
3060-0999 | Sec. 20.19 and Hearing Aid Compatibility Status Report | 12/31/13
3060-1000 | Sec. 87.147 | 12/31/13
3060-1003 | Communications Disaster Information Reporting System (DIRS) | 06/30/15
3060-1004 | Commission Rules to Ensure Compatibility with Enhanced 911 Emergency Calling Systems | 08/31/12
3060-1005 | Numbering Resource Optimization—Phase 3 | 05/31/14
3060-1008 | Secs. 27.50 and 27.602 | 09/30/14
3060-1013 | Mitigation of Orbital Debris | 02/28/14
3060-1014 | Ku-Band NGSO FSS | 12/31/14
3060-1015 | Ultra Wideband Transmission Systems Operating Under Part 15 | 01/31/15
3060-1021 | Sec. 25.139 | 03/31/14
3060-1022 | Secs. 101.1403, 101.103(f), 101.1413, 101.1440 and 101.1417 | 08/31/14
3060-1028 | International Signaling Point Code (ISPC) | 02/28/14
3060-1029 | Data Network Identification Code (DNIC) | 02/28/14
3060-1030 | Service Rules for Advanced Wireless Services (AWS) in the 1.7 GHz and 2.1 GHz Bands | 06/30/13
3060-1031 | Commission's Initiative to Implement Enhanced 911 (E911) Emergency Services | 10/31/12
3060-1033 | FCC 396-C | 02/28/13
3060-1034 | Digital Audio Broadcasting Systems and Their Impact on the Terrestrial Radio Broadcast Service and FCC 335-AM, FCC 335-FM | 06/30/13
3060-1035 | FCC 309, FCC 310 and FCC 311, Part 73, Subpart F, International Broadcast Stations | 01/31/15
3060-1039 | FCC 620 and FCC 621 | 09/30/14
3060-1042 | Request for Technical Support—Help Request Form | 08/31/13
3060-1043 | Telecommunications Relay Services and Speech-to-Speech Services for Individuals with Hearing and Speech Disabilities, Report and Order, CC Docket No. 98-67; FCC 04-137 | 03/31/14
3060-1044 | Review of the Section 251 Unbundling Obligations of Incumbent Local Exchange Carriers, CC Docket No. 01-338, and WC Docket No. 04-313, FCC 04-290, Order on Remand | 04/30/13
3060-1045 | FCC 324 and Sec. 76.1610 | 02/28/15
3060-1046 | Part 64, Pay Telephone Reclassification and Compensation Provisions of the Telecommunications Act of 1996 | 06/30/14
3060-1047 | Telecommunications Relay Services and Speech-to-Speech Services for Individuals with Hearing and Speech Disabilities, Report and Order, FCC 03-112 | 01/31/15
3060-1048 | Sec. 1.929(c)(1) | 02/28/13
3060-1050 | Sec. 97.303 | 10/31/13
3060-1053 | Sec. 64.604, Telecommunications Relay Services, and Speech-to-Speech Services for Individuals with Hearing and Speech Disabilities, Two-Line Captioned Telephone Order | 04/30/13
3060-1054 | FCC 422-IB | 02/28/13
3060-1056 | FCC 421-IB | 01/31/13
3060-1057 | FCC 420-IB | 01/31/13
3060-1058 | FCC 608 | 01/31/14
3060-1059 | Global Mobile Personal Communications by Satellite (GMPCS)/E911 Call Centers | 11/30/13
3060-1060 | Wireless E911 Coordination Initiative Letter to State 911 Coordinators | 11/30/13
3060-1061 | Earth Stations on Board Vessels (ESVs) | 12/31/12
3060-1062 | Schools and Libraries Universal Service Support Mechanism—Notification of Equipment Transfers | 06/30/13
3060-1063 | Global Mobile Personal Communications by Satellite (GMPCS) Authorization, Marketing and Importation Rules | 02/28/13
3060-1064 | Regulatory Fee Assessment True-Ups | 06/30/14
3060-1066 | FCC 312-R and Secs. 25.121(e) and 25.131(h) | 02/28/13
3060-1067 | FCC 312-EZ | 03/31/13
3060-1069 | Rules and Policies Concerning Attribution of Joint Sales Agreements in Local Television Markets, NPRM, MB Docket No. 94-256, FCC 04-173 | 05/31/13
3060-1070 | Sec. 101.1523 and Allocation and Service Rules for the 71-76 GHz, 81-86 GHz and 92-95 GHz Bands | 10/31/14
3060-1078 | Rules and Regulations Implementing the Controlling the Assault of Non-Solicited Pornography and Marketing Act of 2003 (CAN-SPAM Act), CG Docket No. 04-53 | 11/30/13
3060-1079 | Sec. 15.240, Radio Frequency Identification Equipment (RFID) | 02/28/14
3060-1080 | Improving Public Safety Communications in the 800 MHz Band; TA-13.1 and TA-14.1 | 09/30/14
3060-1081 | Secs. 54.202, 54.209, 54.307, 54.313, 54.314 and 54.809 | 07/31/14
3060-1084 | Rules and Regulations Implementing Minimum Customer Account Record Obligations on All Local and Interexchange Carriers (CARE), CG Docket No. 02-386 | 06/30/13
3060-1085 | Sec. 9.5, Interconnected Voice Over Internet Protocol (VoIP) E911 Compliance | 06/30/15
3060-1086 | Secs. 74.786, 74.787, 74.790, 74.794 and 74.796 | 08/31/14
3060-1087 | Sec. 15.615 | 06/30/14
3060-1088 | Rules and Regulations Implementing the Telephone Consumer Protection Act (TCPA) of 1991, CG Docket No. 05-338, FCC 06-42 | 05/31/13
3060-1089 | Telecommunications Relay Services and Speech-to-Speech Services for Individuals with Hearing and Speech Disabilities, E911 Requirements for IP-Enabled Service | 12/31/13
3060-1092 | FCC 609-T and FCC 611-T | 01/31/14
3060-1094 | Secs. 27.14 and 27.1221 | 03/31/14
3060-1095 | Surrenders of Authorizations for International Carrier, Space Station and Earth Station Licensees | 01/31/15
3060-1096 | Prepaid Calling Card Service Provider Certification, WC Docket No. 05-68 | 04/30/13
3060-1097 | Service Rules and Policies for the Broadcasting Satellite Service (BSS) | 11/30/14
3060-1100 | Sec. 15.117(k) | 06/30/13
3060-1101 | Children's Television Requests for Preemption Flexibility | 04/30/13
3060-1103 | Sec. 76.41 | 06/30/13
3060-1104 | Sec. 83.682(d) | 03/31/14
3060-1105 | FCC 387 | 03/31/14
3060-1106 | Licensing and Service Rules for Vehicle Mounted Earth Stations (VMES) | 12/31/12
3060-1108 | Consummations of Assignments and Transfers of Control of Authorization | 06/30/13
3060-1110 | Sunset of the Cellular Radiotelephone Service Analog Service Requirement and Related Matters, FCC 07-103 | 10/31/13
3060-1111 | Secs. 225 and 255, Interconnected Voice Over Internet Protocol (VoIP) Services | 04/30/14
3060-1112 | Comprehensive Review of the Universal Service Fund Management, Administration, and Oversight | 11/30/13
3060-1113 | Commercial Mobile Alert System (CMAS) | 07/31/14
3060-1115 | DTV Consumer Education Initiative; Sec. 73.674, and FCC 388 | 09/30/12
3060-1116 | Submarine Cable Reporting | 12/31/14
3060-1120 | Service Quality Measurement Plan for Interstate Special Access and Monthly Usage Reporting Requirements (272 Sunset Rulemaking) | 09/30/14
3060-1122 | Preparation of Annual Reports to Congress for the Collection & Expenditure of Fees or Charges for Enhanced 911 (E911) Services under the NET 911 Improvement Act of 2008 | 05/31/15
3060-1124 | Sec. 80.231 | 01/31/15
3060-1126 | Sec. 10.350 | 06/30/15
3060-1127 | First Responder Emergency Contact Information in the Universal Licensing System (ULS) | 03/31/13
3060-1128 | National Broadband Plan Survey of Consumers | 03/31/13
3060-1129 | Broadband Speed Test and Unavailability Registry | 02/28/13
3060-1130 | National Broadband Plan Survey of Businesses | 02/28/13
3060-1131 | Implementation of the NET 911 Improvement Act of 2008: Location Information from Owners and Controllers of 911 and E911 Capabilities | 12/31/12
3060-1133 | FCC 308 and Secs. 73.3545 and 73.3580 | 01/31/13
3060-1135 | Rules Authorizing the Operation of Low Power Auxiliary Stations (including Wireless Microphones) | 08/31/13
3060-1136 | Spectrum Dashboard Customer Feedback | 08/31/13
3060-1138 | Secs. 1.49 and 1.54 | 04/30/13
3060-1139 | Residential Fixed Broadband Services Testing and Measurement | 02/28/14
3060-1140 | Requests for Waiver of Various Petitioners to Allow the Establishment of 700 MHz Interoperable Public Safety Wireless Broadband Networks, Order, PS Docket No. 06-229, DA 10-2342 | 06/30/14
3060-1142 | Electronic Tariff Filing System (ETFS),WC Docket No. 10-141, FCC 10-127, NPRM | 09/30/13
3060-1143 | E-Rate Deployed Ubiquitously (EDU) 2011 Pilot Program | 04/30/14
3060-1144 | Consumer Survey | 02/28/14
3060-1145 | Structure and Practices of the Video Relay Service Program, CG Docket No. 10-51 | 09/30/14
3060-1146 | Implementation of the 21st Century Communications and Video Accessibility Act of 2010, Section 105, Relay Services for Deaf-Blind Individuals, CG Docket No. 10-210 | Pending OMB review and approval.
3060-1147 | Wireless E911 Phase II Location Accuracy Requirements | 05/31/15
3060-1148 | Sec. 79.3 | Pending OMB review and approval.
3060-1150 | Structure and Practices of the Video Relay Service Program, Second Report and Order, CG Docket No. 10-51 | 06/30/15
3060-1151 | Secs. 1.1420, 1.1422, and 1.1424 | 01/31/15
3060-1152 | Implementing a Nationwide, Broadband, Interoperable Public Safety Network in the 700 MHz Band (Third Report and Order, PS Docket No. 06-229, FCC 11-6) | 06/30/14
3060-1153 | Satellite Digital Radio Service (SDARS) | 07/31/14
3060-1154 | Commercial Advertisement Loudness Mitigation (“CALM”) Act; Financial Hardship and General Waiver Requests | 06/30/15
3060-1155 | Secs. 15.713, 15.714, 15.715 and 15.717 | 02/28/15
3060-1157 | Formal Complaint Procedures, Preserving the Open Internet and Broadband Industry Practices, Report and Order, GN Docket No. 09-191 and WC Docket No. 07-52 | 09/30/14
3060-1158 | Disclosure of Network Management Practices, Preserving the Open Internet and Broadband Industry Practices, Report and Order, GN Docket No. 09-191 and WC Docket No. 07-52 | 09/30/14
3060-1159 | Part 25—Satellite Communications; and Part 27—Miscellaneous Wireless Communications Services in the 2.3 GHz Band | 09/30/14
3060-1161 | Sec. 27.14(g)-(l) | 10/31/14
3060-1162 | Closed Captioning of Video Programming Delivered Using Internet Protocol, and Apparatus Closed Caption Requirements | Pending OMB review and approval.
3060-1165 | Sec. 74.605 | 03/31/15
3060-1166 | FCC 180 | 04/30/15
3060-1167 | Accessible Telecommunications and Advanced Communications Services and Equipment | 04/30/15
3060-1168 | FCC 680 | 04/30/15
3060-1169 | Part 11—Emergency Alert System (EAS), Fifth Report and Order, FCC 12-7 | 11/30/12
3060-1171 | Secs. 73.682(e) and 76.607(a), Commercial Advertisement Loudness Mitigation (“CALM”) Act | 06/30/15

[FR Doc. 2012-19760 Filed 8-10-12; 8:45 am]

BILLING CODE 6712-01-P